DEPARTMENT OF THE INTERIOR

Fish and Wildlife Service

[FWS-R7-R-2008-N0253; [70133-1265-0000-S3]

Innoko National Wildlife Refuge, McGrath, AK

AGENCY: Fish and Wildlife Service, Interior.

ACTION: Notice of availability of the revised comprehensive conservation plan and finding of no significant impact for environmental assessment.

SUMMARY: We, the Fish and Wildlife Service (Service) announce the availability of our Revised Comprehensive Conservation Plan (CCP) and Finding of No Significant Impact (FONSI) for the Environmental Assessment (EA) for the Innoko National Wildlife Refuge (Innoko Refuge). In this revised CCP, we describe how we will manage this Refuge for the next 15 years.

ADDRESSES: You may view or obtain copies of the revised CCP and FONSI by any of the following methods. You may request a paper copy, a summary, or a CD-ROM containing both.

Agency Web Site: Download a copy of the documents at http://alaska.fws.gov/nwr/planning/innpol.htm.

E-mail: fw7_innoko_planning@fws.gov. Please include “Innoko Refuge Revised CCP” in the subject line of the message.

Mail: Rob Campellone, Planning Team Leader, U.S. Fish and Wildlife Service, 1011 East Tudor Road, MS 231, Anchorage, AK 99503-6199.

In-Person Viewing or Pickup: Call (907) 786-3357 to make an appointment during regular business hours at the USFWS Regional Office, 1011 E. Tudor Road, Anchorage, AK 99503 or call (907) 524-3251 to make an appointment during regular business hours at Innoko Refuge, 40 Tonzona, McGrath, AK 99627.

FOR FURTHER INFORMATION CONTACT: Rob Campellone, Planning Team Leader, (907) 786-3357 or fw7_innoko_planning@fws.gov.

SUPPLEMENTARY INFORMATION:

Introduction

With this notice, we finalize the CCP process for the Innoko Refuge. We started this process with a notice of intent in the Federal Register (72 FR 8197, Feb. 23, 2007) We announced the availability of the draft CCP and EA, and requested comments in a notice of availability in the Federal Register (73 FR 27842, May 14, 2008).

Established by the Alaska National Interest Lands Conservation Act (94 Stat. 2371) in 1980, Innoko Refuge covers some 3,850,000 acres and is one of the most important waterfowl areas in west central interior Alaska. Approximately half of the Refuge consists of wetlands set with innumerable lakes and ponds of varying size. The remainder is marked by hills, most of which are less than one thousand feet in elevation. Almost one-third of the Refuge is designated Wilderness. The route of the historic Iditarod Trail crosses the Refuge.

Refuge purposes include (1) conservation of fish and wildlife populations and habitats in their natural diversity including, but not limited to, waterfowl, peregrine falcons, other migratory birds, black bear, moose, furbearers, and other mammals and salmon; (2) fulfilling the international treaty obligations of the United States with respect to fish and wildlife and their habitats; (3) providing, in a manner consistent with purposes (1) and (2) above, the opportunity for continued subsistence by local residents; and ensuring, to the maximum extent practicable and in a manner consistent with purpose (1) above, water quality and necessary water quantity within the Refuge.

We announce our decision and the availability of the FONSI for the revised CCP for Innoko Refuge in accordance with National Environmental Policy Act (NEPA) [40 CFR 1506.6(b)] requirements. We completed a thorough analysis of impacts on the human environment in the EA that accompanied the draft revised CCP.

The CCP will guide us in managing and administering the Innoko Refuge for the next 15 years. The revised CCP is Alternative B, the proposed action in the draft CCP, edited slightly in response to public comments.

Background

The Alaska National Interest Lands Conservation Act of 1980 (94 Stat. 2371; ANILCA) and the National Wildlife Refuge system Improvement Act of 1997 (16 U.S.C. 668dd-668ee) require us to develop a CCP for each Alaska refuge. The purpose for developing a CCP is to provide refuge managers with a 15-year plan for achieving refuge purposes and contributing toward the mission of the National Wildlife Refuge System, consistent with sound principles of fish and wildlife management, conservation, legal mandates, and our policies. We will review and update the CCP at least every 15 years in accordance with national policy and ANILCA. ANILCA requires us is to designate areas according to their respective resources and values and to specify programs and uses within the areas designated. To meet this requirement, the Alaska Region established management categories for refuges including Wilderness, Minimal, Moderate, Intensive, and Wild River management. For each management category we identified appropriate activities, public uses, commercial uses, and facilities. Only Wilderness and Minimal management categories are applied to Innoko Refuge.

Draft CCP Alternatives

Our draft CCP and EA addressed seven issues and evaluated two alternatives. The seven significant issues raised during scoping were: (1) Competition for moose harvesting; (2) management of air taxis to balance demand for visitor access with user experience and resource protection; (3) threats to water quality from off-Refuge mining; (4) Refuge enhancement of its relationship with local communities; (5) monitoring and addressing the effects of climate change; (6) the State of Alaska's wood bison project; and (7) ensuring resource protection while providing for subsistence and other public uses.

Alternative A (the no-action alternative—a NEPA requirement) described what would happen with a continuation of current management activities and served as a baseline for comparison of other alternative. Under Alternative A, management of the Refuge would continue to follow the current course of action as described in the 1987 Innoko CCP and Record of Decision as modified by subsequent program-specific plans. Refuge lands would remain in their present management categories.

Under our selected alternative, Alternative B, Refuge lands would continue to be managed in their present management categories. New regional policies and guidelines for national wildlife refuges in Alaska would be incorporated. The vision, goals, and objectives proposed in the draft CCP would be adopted to guide Refuge management.

Comments on the Draft CCP

Public comments on the draft CCP and EA were solicited from May 14, 2008 through July 22, 2008. A public meeting was held in McGrath but no one attended it. Comments were received from the State of Alaska, three conservation organizations, one big-game guide outfitter, and two individuals.

One individual requested a ban on all hunting, trapping, logging, new roads and prescribed burning in the Refuge. The other individual recommended that the Refuge Headquarters be moved to Galena. Support for the State of Alaska's wood bison project and opposition to future subsistence hunting of wood bison was expressed. The outfitter-guide expressed concern about management of air taxis and management of hunting within the Refuge. Two conservation organizations requested the CCP include Wilderness and Wild and Scenic River recommendations. One organization provided comments on motorized and mechanized activities, climate change, and supported disclosure of information about State of Alaska right-of-way claims. One organization provided a number of specific comments on access and fisheries enhancement in wilderness. The State of Alaska provided technical and editorial comments on wood bison, fisheries management, goals and objectives, predator management, management policies and guidelines, and draft compatibility determinations.

No substantive revisions to Alternative B, the proposed action, were made as a result of the public comments on the Draft Revised Innoko CCP. A number of technical corrections were made in response to comments and many of the editorial suggestions provided by the State of Alaska were adopted.

Dated: October 10, 2008.
Thomas O. Melius,
Regional Director, U.S. Fish and Wildlife Service, Anchorage, Alaska.

Editorial Note: This document was received in the Office of the Federal Register on Tuesday, January 27, 2009.

[FR Doc. E9-2088 Filed 1-29-09; 8:45 am]

BILLING CODE 4310-55-P